ENVIRONMENTAL PROTECTION AGENCY

[FRL-9090-9; Docket ID No. EPA-HQ-ORD-2007-0517]

Integrated Science Assessment for Particulate Matter

AGENCY: Environmental Protection Agency.

ACTION: Notice of availability.

SUMMARY: The Environmental Protection Agency (EPA) is announcing the availability of a final document titled, “Integrated Science Assessment for Particulate Matter” (EPA/600/R-08/139F) and the supplementary annexes (EPA/600/R-08/139FA). The document was prepared by the National Center for Environmental Assessment (NCEA) within EPA's Office of Research and Development as part of the review of the national ambient air quality standards (NAAQS) for particulate matter.

DATES: The document will be available on or about December 15, 2009.

ADDRESSES: The “Integrated Science Assessment for Particulate Matter” will be available primarily via the Internet on the National Center for Environmental Assessment's home page under the Recent Additions and Publications menus at http://www.epa.gov/ncea. A limited number of CD-ROM or paper copies will be available. Contact Ms. Deborah Wales by phone (919-541-4731), fax (919-541-5078), or e-mail (wales.deborah@epa.gov) to request either of these, and please provide your name, your mailing address, and the document title, “Integrated Science Assessment for Particulate Matter” (EPA/600/R-08/139F and EPA/600/R-08/139FA) to facilitate processing of your request.

FOR FURTHER INFORMATION CONTACT

For technical information, contact Dr. Lindsay Wichers Stanek, NCEA; telephone: 919-541-7792; facsimile: 919-541-2985; or e-mail: stanek.lindsay@epa.gov.

SUPPLEMENTARY INFORMATION:

I. Information About the Document

Section 108(a) of the Clean Air Act directs the Administrator to identify certain pollutants which, among other things, “cause or contribute to air pollution which may reasonably be anticipated to endanger public health or welfare” and to issue air quality criteria for them. These air quality criteria are to “accurately reflect the latest scientific knowledge useful in indicating the kind and extent of all identifiable effects on public health or welfare which may be expected from the presence of [a] pollutant in the ambient air * * *.” Under section 109 of the Act, EPA is then to establish national ambient air quality standards (NAAQS) for each pollutant for which EPA has issued criteria. Section 109(d) of the Act subsequently requires periodic review and, if appropriate, revision of existing air quality criteria to reflect advances in scientific knowledge on the effects of the pollutant on public health or welfare. EPA is also to revise the NAAQS, if appropriate, based on the revised air quality criteria.

Particulate matter (PM) is one of six principal (or “criteria”) pollutants for which EPA has established NAAQS. Periodically, EPA reviews the scientific basis for these standards by preparing an Integrated Science Assessment (ISA) (formerly called an Air Quality Criteria Document). The ISA and supplementary annexes, in conjunction with additional technical and policy assessments, provide the scientific basis for EPA decisions on the adequacy of the current NAAQS and the appropriateness of possible alternative standards. The Clean Air Scientific Advisory Committee (CASAC), an independent science advisory committee whose existence and whose review and advisory functions are mandated by Section 109(d)(2) of the Act, is charged (among other things) with independent scientific review of EPA's air quality criteria.

On June 28, 2007 (72 FR 35462), EPA formally initiated its current review of the air quality criteria for PM, requesting the submission of recent scientific information on specified topics. A draft of EPA's ”Integrated Review Plan for the National Ambient Air Quality Standard for Particulate Matter” (EPA/452/P-08-006) was made available in October 2007 for public comment and was discussed by the CASAC PM Review Panel via a publicly accessible teleconference consultation on November 30, 2007 (72 FR 63177). EPA finalized the plan and made it available in March 2008 (EPA/452/R-08-004; http://www.epa.gov/ttn/naaqs/standards/pm/s_pm_2007_pd.html). In June 2008 (73 FR 30391), EPA held a workshop to discuss, with invited scientific experts, initial draft materials prepared in the development of the PM ISA and its supplementary annexes.

The First External Review Draft ISA for PM (EPA/600/R-08/139 and EPA/600/R-08/139A; http://cfpub.epa.gov/ncea/cfm/recordisplay.cfm?deid=201805) was released on December 22, 2008 (73 FR 77686). This document was reviewed by the CASAC and discussed at a public meeting on April 1 and 2, 2009 (74 FR 7688). The CASAC held a follow-up public teleconference on May 7, 2009 (74 FR 18230) to review and approve the CASAC PM Review Panel's draft letter providing comments to the Agency on the First External Review Draft ISA for PM (http://yosemite.epa.gov/sab/sabproduct.nsf/73ACCA834AB44A10852575BD0064346B/$File/EPA-CASAC-09-008-unsigned.pdf).

The Second External Review Draft ISA for PM (EPA/600/R-08/139B and EPA/600/R-08/139BA; http://cfpub.epa.gov/ncea/cfm/recordisplay.cfm?deid=210586) was released on July 31, 2009 (74 FR 38185) and reviewed and discussed by CASAC at a public meeting on October 5 and 6, 2009 (74 FR 46586). The CASAC held a follow-up public teleconference on November 12, 2009 to review and approve the CASAC PM Review Panel's draft letter providing comments to the Agency on the Second External Review Draft ISA for PM (http://yosemite.epa.gov/sab/sabproduct.nsf/MeetingCal/24CDD0F35DB3EC9F8525762400482B2F?OpenDocument). EPA has considered comments by CASAC and by the public in preparing this final ISA.

Dated: December 1, 2009.
Rebecca Clark,
Acting Director, National Center for Environmental Assessment.

[FR Doc. E9-29591 Filed 12-14-09; 8:45 am]

BILLING CODE 6560-50-P